DEPARTMENT OF HEALTH AND HUMAN SERVICES

National Institutes of Health

Center For Scientific Review; Amended Notice of Meeting

Notice is hereby given of a change in the meeting of the Biomedical Imaging Technology B Study Section, October 07, 2013, 08:00 a.m. to October 08, 2013, 05:00 p.m., Hilton Alexandria Mark Center, 5000 Seminary Road, Alexandria, VA, 22311 which was published in the Federal Register on September 10, 2013, 78 FR 55269.

The meeting will start on November 24, 2013 at 06:00 p.m. and end on November 25, 2013 at 06:00 p.m. The meeting location remains the same. The meeting is closed to the public.

Dated: October 23, 2013.
David Clary,
Program Analyst, Office of Federal Advisory Committee Policy.

[FR Doc. 2013-25495 Filed 10-28-13; 8:45 am]

BILLING CODE 4140-01-P